FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than November 4, 2022.

A. Federal Reserve Bank of Kansas City (Jeffrey Imgarten, Assistant Vice President) 1 Memorial Drive, Kansas City, Missouri 64198-0001:

1. Dallas Polen, III, Overland Park, Kansas; and Benjamin Polen, as trustee of the following trusts: the Emmalie Gessner Cowherd Revocable Living Trust Dated 06-29-00, the Clifton R. Cowherd Testamentary Trust; and the Carroll County Trust Company Employees Profit Sharing Plan and Trust, all of Carrollton, Missouri; to become members of the Polen/Cowherd Family Group, a group acting in concert to retain voting shares of Carroll County Bancshares, Inc. and thereby indirectly retain voting shares of Carroll County Trust Company of Carrollton, Missouri, both of Carrollton, Missouri.

2. The Jan Elaine Townsend 2022 Trust, The Hilary Irene Townsend 2022 Trust, The Lara Townsend Gradt 2022 Trust, and the Jennifer Townsend Earls 2022 Trust, Barbara Newman Townsend, as the sole trustee, all of Grove, Oklahoma; and that each of the four trusts to join the Townsend Family Group, a group acting in concert to acquire voting shares of Townsend Holding Company, and thereby indirectly acquiring voting shares of the Bank of Grand Lake, both of Grove, Oklahoma.

B. Federal Reserve Bank of Minneapolis (Chris P. Wangen, Assistant Vice President) 90 Hennepin Avenue, Minneapolis, Minnesota 55480-0291: Comments can also be sent electronically to MA@mpls.frb.org:

1. The Debra L. Rasmussen Irrevocable Trust and the Dane L. Rasmussen Survivor's Trust, Dane L. Rasmussen, as trustee of both trusts, all of Baldwin, Wisconsin; as members of the Rasmussen Family Shareholder Group, a group acting in concert, to retain voting shares of Baldwin Bancshares, Inc., and thereby indirectly retain voting shares of The First Bank of Baldwin, both of Baldwin, Wisconsin.

2. The Frank L. Farrar Dynasty Trust II, the Frank L. Farrar and Patricia J. Farrar 2022 Irrevocable Trust, Robert Farrar, individually and as trustee of both trusts, all of Britton, South Dakota; Anne M. Farrar, St. Paul, Minnesota; Samuel Farrar Orfield; Minneapolis, Minnesota; to acquire voting shares of Beresford Bancorporation, Inc., Britton, South Dakota, and thereby indirectly acquire First Savings Bank, Beresford, South Dakota, as part of a group acting in concert that includes Jeanne Farrar Orfield, Minneapolis, Minnesota; Sally A. Farrar, Arkansaw, Wisconsin; Mary S. Farrar Turner, Pierre, South Dakota; Arthur Turner, Lauderdale, Minnesota; Frank Turner, Hettinger, North Dakota; and Reid Turner, Iowa City, Iowa.

3. The Frank L. Farrar Dynasty Trust II, the Frank L. Farrar and Patricia J. Farrar 2022 Irrevocable Trust, and Robert Farrar, individually and as trustee of both trusts, all of Britton, South Dakota; to acquire voting shares of Fulda Bancorporation, Inc., Britton, South Dakota, and thereby indirectly acquire First National Bank, Oldham, South Dakota.

4. The Frank L. Farrar Dynasty Trust II, the Frank L. Farrar and Patricia J. Farrar 2022 Irrevocable Trust, Robert Farrar, individually and as trustee of both trusts, all of Britton, South Dakota; Anne M. Farrar, St. Paul, Minnesota; Samuel Farrar Orfield; Minneapolis, Minnesota; to acquire voting shares of Capitol Bancorporation, Inc., Britton, South Dakota, and thereby indirectly acquire First National Bank, Ft. Pierre, South Dakota, as part of a group acting in concert that includes Jeanne Farrar Orfield, Minneapolis, Minnesota; Sally A. Farrar, Arkansaw, Wisconsin; Mary S. Farrar Turner, Pierre, South Dakota; Arthur Turner, Lauderdale, Minnesota; Frank Turner, Hettinger, North Dakota; and Reid Turner, Iowa City, Iowa.

Board of Governors of the Federal Reserve System.
Michele Taylor Fennell,
Deputy Associate Secretary of the Board.

[FR Doc. 2022-22807 Filed 10-19-22; 8:45 am]

BILLING CODE P